DEPARTMENT OF ENERGY

Federal Energy Regulatory Commission

[Docket No. RP03-19-001]

Florida Gas Transmission Company; Notice of Compliance Filing

November 29, 2002.

Take notice that on November 25, 2002, Florida Gas Transmission Company (FGT) tendered for filing as part of its FERC Gas Tariff, Third Revised Volume No. 1, Substitute Fifth Revised Sheet No. 174, to become effective November 11, 2002.

FGT states that on October 11, 2002 it filed a revised tariff sheet to modify its tariff to allow FGT to terminate service contracts with replacement shippers for temporary capacity releases if the releasing shipper is no longer creditworthy and certain other conditions are met. Subsequently, on November 8, 2002, the Commission issued an order accepting FGT's filing, subject to FGT's filing a revised tariff sheet within 15 days providing that FGT may terminate contracts with replacement shippers when it has terminated the contract with the releasing shipper. In the instant filing, FGT states that it is proposing the tariff modifications as required by the order. However, FGT requests that the Commission defer action on accepting and making the modifications effective until after ruling on the request for rehearing, which FGT is filing concurrent with the instant filing.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Linwood A. Watson, Jr.,
Deputy Secretary.

[FR Doc. 02-30831 Filed 12-5-02; 8:45 am]

BILLING CODE 6717-01-P